SMALL BUSINESS ADMINISTRATION

[License No. 02/72-0635]

Trumpet SBIC Partners, L.P.; Notice Seeking Exemption Under Section 312 of the Small Business Investment Act, Conflicts of Interest

Notice is hereby given that Trumpet SBIC Partners, L.P., 110 East 59th Street, Suite 2100, New York, NY, 10022, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Trumpet SBIC Partners, L.P. proposes to provide debt financing to SOI Holdings, Inc., 5260 Parkway Plaza Boulevard, Suite 2100, Charlotte, NC 28217. The financing is contemplated to refinance outstanding debt.

The financing is brought within the purview of § 107.730(a)(1) of the Regulations because Trumpet Investors, LP, an Associate of Trumpet SBIC Partners, L.P., owns more than ten percent of SOI Holdings, Inc.

Therefore, this transaction is considered a financing of an Associate requiring an exemption. Notice is hereby given that any interested person may submit written comments on the transaction within fifteen days of the date of this publication to Associate Administrator for Investment, U.S. Small Business Administration, 409 Third Street, SW., Washington, DC 20416.

Dated: October 27, 2009.
Sean J. Greene,
Associate Administrator for Investment.

[FR Doc. E9-27457 Filed 11-16-09; 8:45 am]

BILLING CODE 8025-01-P